ENVIRONMENTAL PROTECTION AGENCY

[FRL-8530-1]

Clean Water Act Section 303(d): Availability of List Decisions

AGENCY: Environmental Protection Agency.

ACTION: Notice of Availability.

SUMMARY: This notice announces the availability of EPA's Responsiveness Summary Concerning EPA's November 5, 2007, Public Notice of Final Decisions to Add Waters and Pollutants to Louisiana's 2006 section 303(d) List.

On November 5, 2007 EPA published a notice in the Federal Register at 72 FR 62476-62477 providing the public the opportunity to review its final decision to add waters and pollutants to Louisiana's 2006 section 303(d) List as required by EPA's Public Participation regulations (40 CFR part 25). Based on the Responsiveness Summary, an amended action is warranted and a total of five water body pollutant combinations were removed from EPA's Final Action on Louisiana's 2006 section 303(d) List. As a result of this amended Final Action, EPA is adding 133 water body pollutant combinations to Louisiana's 2006 section 303(d) List. A total of 478 water body pollutant combinations are now included in Louisiana's 2006 Final section 303(d) List. The basis for these decisions is described in EPA's Responsiveness Summary and the amended Record of Decision.

ADDRESSES: Copies of EPA's Responsiveness Summary Concerning EPA's November 5, 2007, Public Notice of Final Decisions to Add Waters and Pollutants to Louisiana's 2006 section 303(d) List can be obtained at EPA Region 6's Web site at http://www.epa.gov/earth1r6/6wq/tmdl.htm, or by writing or calling Ms. Diane Smith at Water Quality Protection Division, U.S. Environmental Protection Agency Region 6, 1445 Ross Ave., Dallas, TX 75202-2733, telephone (214) 665-2145, facsimile (214) 665-7373, or e-mail: smith.diane@epa.gov. Underlying documents from the administrative record for these decisions are available for public inspection at the above address. Please contact Ms. Smith to schedule an inspection.

FOR FURTHER INFORMATION CONTACT: Diane Smith at (214) 665-2145.

SUPPLEMENTARY INFORMATION: Section 303(d) of the Clean Water Act (CWA) requires that each state identify those waters for which existing technology-based pollution controls are not stringent enough to attain or maintain state water quality standards. For those waters, states are required to establish Total Maximum Daily Loads (TMDLs) according to a priority ranking.

EPA's Water Quality Planning and Management regulations include requirements related to the implementation of section 303(d) of the CWA (40 CFR 130.7). The regulations require states to identify water quality limited waters still requiring TMDLs every 2 years. The list of waters still needing TMDLs must also include priority rankings and must identify the waters targeted for TMDL development during the next two years (40 CFR 130.7).

Consistent with EPA's regulations, Louisiana submitted to EPA its 2006 listing decisions under section 303(d) on February 12, 2007. On October 19, 2007, EPA approved Louisiana's 2006 listing of 347 water body-pollutant combinations and associated priority rankings. EPA disapproved Louisiana's 2006 listing decisions not to list 136 water quality limited segments. EPA identified these additional waters and pollutants along with priority rankings for inclusion on the 2006 section 303(d) Lists.

Dated: February 7, 2008.
Miguel I. Flores,
Director, Water Quality Protection Division, Region 6.

[FR Doc. E8-2894 Filed 2-14-08; 8:45 am]

BILLING CODE 6560-50-P